DEPARTMENT OF ENERGY

[DOE Docket No. 202-21-1]

Emergency Order Issued to the Electric Reliability Council of Texas (ERCOT) To Operate Power Generating Facilities Under Limited Circumstances in Texas as a Result of Extreme Weather

AGENCY: Office of Electricity, Department of Energy.

ACTION: Notice of emergency action.

SUMMARY: The U.S. Department of Energy is issuing this Notice to document emergency actions that it has taken pursuant to the Federal Power Act (FPA).

ADDRESSES: Requests for more information should be addressed by electronic mail to askoe@hq.doe.gov.

FOR FURTHER INFORMATION CONTACT: For further information on this Notice, or for information on the emergency activities related to the Order, contact Christopher Lawrence, 202-586-5260, Christopher.lawrence@hq.doe.gov, or by mail to the attention of Christopher Lawrence, OE-20, 1000 Independence Ave. SW, Washington, DC 20585. Due to limited access to DOE facilities because of current COVID-19 restrictions, contact via phone or email is preferred.

The Order and all related information are available here: https://www.energy.gov/oe/downloads/federal-power-act-section-202c-ercot-february-2021.

SUPPLEMENTARY INFORMATION: Pursuant to 10 CFR 1021.343(a), the U.S. Department of Energy (the Department) is issuing this Notice to document emergency actions taken. Under FPA section 202(c) [d]uring the continuance of a war in which the United States is engaged, or whenever the [Secretary of Energy] determines that an emergency exists by reason of a sudden increase in the demand for electric energy, or a shortage of electric energy or of facilities for the generation or transmission of electric energy, or of fuel or water for generating facilities, or other causes, the [Secretary of Energy] shall have authority . . . to require by order such temporary connections of facilities and generation, delivery, interchange, or transmission of electric energy as in its judgment will best meet the emergency and serve the public interest.

On February 14, 2021, the Electric Reliability Council of Texas (ERCOT), the Independent System Operator (ISO) whose service territory includes 90 percent of the electric customers in the state of Texas, filed a Request for Emergency Order Under Section 202(c) of the Federal Power Act (Application) with the Department “to preserve the reliability of bulk electric power system.” In its Application, ERCOT cited unprecedented low temperatures facing Texas and the surrounding region that would lead to electric demand outpacing available generation. In its Application, ERCOT noted that numerous generation units would be unable to operate at full capacity without violating federal air quality or other permit limitations. Therefore, ERCOT requested that the Secretary issue an order immediately, effective February 14, 2021, through February 19, 2021, authorizing “the provision of additional energy from all generation units subject to emissions or other permit limits” in the ERCOT region.

After review of the facts and ERCOT policy and procedure, the Acting Secretary of Energy issued an emergency order (the Order) on February 14, 2021, directing ERCOT to dispatch necessary electric generation units and to order their operation only as needed to maintain the reliability of the power grid in the ERCOT region when the demand on the ERCOT system exceeds expected energy and reserve requirements.

The Department required that ERCOT provide a report by March 1, 2021, reporting all dates between February 14, 2021 and February 19, 2021, on which the Specified Resources were operated, the hours of operation, and exceedance of permitting limits, including sulfur dioxide (SO2), nitrogen oxides (NOX), mercury (Hg), carbon monoxide (CO), and other air pollutants, as well as exceedances of wastewater release limits.

According to the March 1, 2021, initial report, 27 of the 29 generating units provided emissions data in excess of permit limits. The other two generating units did not exceed permitted levels. The total mass emissions that exceeded permit limits, summed over all generating units for the reporting period, are: 77.03 U.S. tons of NOX and 10.76 U.S. tons of CO. There were no exceedances for SO2, Hg, or PM10. These generating units are located in the Texas counties of Bosque, Calhoun, Fort Bend, Freestone, Harris, and Galveston. DOE will receive final data from ERCOT on March 31, 2021. After receiving the final data from ERCOT on March 31, 2021, DOE will review the report and determine the appropriate level of National Environmental Policy Act (NEPA) review, including analysis of environmental justice issues.

Procedural Background: The generating units (Specified Resources) to which this Order pertains were identified in the Order and can be found on the website identified above. Given the emergency nature of the expected load stress, the responsibility of ERCOT to ensure maximum reliability on its system, and the ability of ERCOT to identify and dispatch generation necessary to meet the additional load, the Acting Secretary determined additional dispatch of the Specified Resources was necessary to best meet the emergency and serve the public interest for purposes of FPA section 202(c). Because the additional generation may result in a conflict with environmental standards and requirements, the Acting Secretary authorized only the necessary additional generation, with reporting requirements as described below.

FPA section 202(c)(2) requires the Secretary of Energy to ensure any FPA section 202(c) order that may result in a conflict with a requirement of any environmental law be limited to the “hours necessary to meet the emergency and serve the public interest, and, to the maximum extent practicable,” be consistent with any applicable environmental law and minimize any adverse environmental impacts. To minimize adverse environmental impacts, the Order limited operation of dispatched units to the times and within the parameters determined by ERCOT for reliability purposes.

The Acting Secretary conditioned the Order by requiring ERCOT to report on actions taken pursuant to the Order regarding the environmental impacts of this Order and its compliance with the conditions of this Order, in each case as requested by the Department of Energy from time to time. On March 1, 2021, ERCOT reported all dates between February 14, 2021, and February 19, 2021, on which the Specified Resources were operated, the hours of operation, and exceedance of permitting limits, including SO2, NOX, Hg, CO, and other air pollutants as well as exceedances of wastewater release limits. ERCOT shall submit a final report by March 31, 2021, with any revisions to the information reported on March 1, 2021. In addition, ERCOT shall provide information to the Department quantifying the net revenue associated with generation in excess of environmental limits accruing to non-RUC units in connection with orders issued by the Department pursuant to Section 202(c) of the Federal Power Act. The reports can viewed on the DOE website for this docket here: https://www.energy.gov/oe/downloads/federal-power-act-section-202c-ercot-february-2021.

Signing Authority

This document of the Department of Energy was signed on April 1, 2021 by Patricia A. Hoffman, Acting Assistant Secretary for the Office of Electricity, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 2, 2021.
Treena V. Garrett,
Federal Register Liaison Officer, U.S. Department of Energy.

[FR Doc. 2021-07136 Filed 4-6-21; 8:45 am]

BILLING CODE 6450-01-P